ENVIRONMENTAL PROTECTION AGENCY

[ER-FRL-6697-8]

Environmental Impact Statements and Regulations; Availability of EPA Comments

Availability of EPA comments prepared pursuant to the Environmental Review Process (ERP), under section 309 of the Clean Air Act and section 102(2) (c) of the National Environmental Policy Act as amended. Requests for copies of EPA comments can be directed to the Office of Federal Activities at 202-564-7167.

Summary of Rating Definitions; Environmental Impact of the Action

LO—Lack of Objections

The EPA review has not identified any potential environmental impacts requiring substantive changes to the proposal. The review may have disclosed opportunities for application of mitigation measures that could be accomplished with no more than minor changes to the proposal.

EC—Environmental Concerns

The EPA review has identified environmental impacts that should be avoided in order to fully protect the environment. Corrective measures may require changes to the preferred alternative or application of mitigation measures that can reduce the environmental impact. EPA would like to work with the lead agency to reduce these impacts.

EO—Environmental Objections

The EPA review has identified significant environmental impacts that must be avoided in order to provide adequate protection for the environment. Corrective measures may require substantial changes to the preferred alternative or consideration of some other project alternative (including the no action alternative or a new alternative). EPA intends to work with the lead agency to reduce these impacts.

EU—Environmentally Unsatisfactory

The EPA review has identified adverse environmental impacts that are of sufficient magnitude that they are unsatisfactory from the standpoint of public health or welfare or environmental quality. EPA intends to work with the lead agency to reduce these impacts. If the potentially unsatisfactory impacts are not corrected at the final EIS stage, this proposal will be recommended for referral to the CEQ.

Adequacy of the Impact Statement

Category 1—Adequate

EPA believes the draft EIS adequately sets forth the environmental impact(s) of the preferred alternative and those of the alternatives reasonably available to the project or action. No further analysis or data collection is necessary, but the reviewer may suggest the addition of clarifying language or information.

Category 2—Insufficient Information

The draft EIS does not contain sufficient information for EPA to fully assess environmental impacts that should be avoided in order to fully protect the environment, or the EPA reviewer has identified new reasonably available alternatives that are within the spectrum of alternatives analyzed in the draft EIS, which could reduce the environmental impacts of the action. The identified additional information, data, analyses, or discussion should be included in the final EIS.

Category 3—Inadequate

EPA does not believe that the draft EIS adequately assesses potentially significant environmental impacts of the action, or the EPA reviewer has identified new, reasonably available alternatives that are outside of the spectrum of alternatives analyzed in the draft EIS, which should be analyzed in order to reduce the potentially significant environmental impacts. EPA believes that the identified additional information, data, analyses, or discussions are of such a magnitude that they should have full public review at a draft stage. EPA does not believe that the draft EIS is adequate for the purposes of the NEPA and/or section 309 review, and thus should be formally revised and made available for public comment in a supplemental or revised draft EIS. On the basis of the potential significant impacts involved, this proposal could be a candidate for referral to the CEQ.

Draft EISs

EIS No. 20070488, ERP No. D-DOE-A09800-00,Programmatic—Designation of Energy Corridors in 11 Western States, Preferred Location of Future Oil, Gas, and Hydrogen Pipelines and Electricity Transmission and Distribution Facilities on Federal Land, AZ, CA, CO, ID, MT, NV, NM, UT, WA and WY.

Summary: EPA expressed environmental concerns about potential underestimation of wetlands in the designated corridors.

Rating EC2.

EIS No. 20080042, ERP No. D-AFS-J65508-MT, Debaugan Fuels Reduction Project, Proposed Fuels Reduction Activities, Lolo National Forest, Superior Ranger District, Mineral County, MT.

Summary: EPA expressed environmental concerns about water quality impacts. EPA requested additional analysis and information to assess and mitigate impacts of the management actions.

Rating EC2.

EIS No. 20080047, ERP No. D-USN-A11080-00, Atlantic Fleet Active Sonar Training Program, To Provide Mid- and High-Frequency Active Sonar Technology and the Improved Extended Echo Ranging (IEER) System during Atlantic Fleet Training Exercises, Along the East Coast of United States (US) and in the Gulf of Mexico.

Summary: EPA does not object to the proposed action.

Rating LO.

EIS No. 20080054, ERP No. D-DOE-J05080-MT, MATL 230-kV Transmission Line Project, To Construct, Operate, Maintain, and Connect a 230-kV Electric Transmission Line, Issuance of Presidential Permit for Right-to-Way Grant, Cascade, Teton, Chouteau, Pondera, Toole and Glacier Counties, MT.

Summary: EPA expressed environmental concerns about water quality and wetland impacts. EPA recommended a modified preferred alternative that would better optimize the environmental, social and economic trade-offs for this project. EPA requested additional information regarding mitigation of impacts.

Rating EC2.

Final EISs

EIS No. 20070457, ERP No. F-UAF-B15000-MA, Final

Recommendations and Associated Actions for the 104th Fighter Wing Massachusetts Air National Guard, Base Realignment and Closure, Implementation, Westfield-Barnes Airport, Westfield, MA.

Summary: EPA had no objection to the project and encouraged the National Guard Bureau to work closely with local communities.

EIS No. 20080062, ERP No. F-USA-A11079-00, Permanent Home Stationing of the 2/25th Stryker Brigade Combat Team (SBECT), To Address a Full Range of Alternatives for Permanently Stationing the 2/25th SBCT, Hawaii and Honolulu Counties, HI; Anchorage and Southeast Fairbanks Boroughs, AK; El Paso, Pueblo, and Fremont Counties, CO.

Summary: EPA's previous concerns have been resolved; therefore, EPA does not object to the proposed project.

EIS No. 20080073, ERP No. F-FHW-F40812-IL, Prairie Parkway Study, Transportation System Improvement between I-80 and I-88, Widening IL-47 to 4 Lanes from I-80 to Caton Farm Road, Funding, U.S. Army COE section 404, Grundy, Kendall and Kane Counties, IL.

Summary: EPA continues to have environmental concerns about water quality and aquatic life impacts due to road salt and other pollutants.

Dated: April 8, 2008.
Ken Mittelholtz,
Environmental Protection Specialist, Office of Federal Activities.

[FR Doc. E8-7784 Filed 4-10-08; 8:45 am]

BILLING CODE 6560-50-P